SOCIAL SECURITY ADMINISTRATION

[Docket No: SSA-2021-0029]

Agency Information Collection Activities: Proposed Request

The Social Security Administration (SSA) publishes a list of information collection packages requiring clearance by the Office of Management and Budget (OMB) in compliance with Public Law 104-13, the Paperwork Reduction Act of 1995, effective October 1, 1995. This notice includes revisions to an OMB-approved information collection.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA

Comments: https://www.reginfo.gov/public/do/PRAMain. Submit your comments online referencing Docket ID Number [SSA-2021-0029].

(SSA) Social Security Administration, OLCA, Attn: Reports Clearance Director, 3100 West High Rise, 6401 Security Blvd., Baltimore, MD 21235, Fax: 410-966-2830, Email address: OR.Reports.Clearance@ssa.gov

Or you may submit your comments online through https://www.reginfo.gov/public/do/PRAMain, referencing Docket ID Number [SSA-2021-0029].

The information collections below are pending at SSA. SSA will submit them to OMB within 60 days from the date of this notice. To be sure we consider your comments, we must receive them no later than October 18, 2021. Individuals can obtain copies of the collection instruments by writing to the above email address.

Continuing Disability Review Report—20 CFR 404.1589 & 416.989-0960-0072. Sections 221(i), 1614(a)(3)(H)(ii)(I) and 1633(c)(1) of the Social Security Act (Act) require SSA to periodically review the cases of individuals who receive benefits under Title II or Title XVI based on disability to determine if their disability continues. SSA considers adults eligible for disability payments if they continue to be unable to perform substantial gainful activity because of their impairments, and we consider Title XVI children eligible for disability payment if they have marked and severe functional limitations because of their impairments. To assess claimants' ongoing disability payment eligibility, SSA requires disability recipients (or their representatives acting on their behalf) to undergo a continuing disability review (CDR). SSA uses the Continuing Disability Review Report to obtain information on disability recipients' disability; on their sources of medical treatment; on their participation in vocational rehabilitation programs (if any); on attempts to work (if any); and on recipients' assessments when they believe their conditions improved.

Title II or Title XVI disability recipients can complete the Continuing Disability Review Report using one of three modalities: (1) A paper application or fillable PDF (using Form SSA-454-BK), which SSA mails to recipients or their representatives; (2) a field office interview, during which SSA employees enter recipient data directly into SSA's internal Electronic Disability Collection System; or (3) upon the completion of the current PRA process, a new online, entirely web-based system called the i454. This new web-based modality will provide recipients a new platform for submitting information to increase accessibility, and enhance automation. In this information collection request, we are soliciting comment on the new i454.

The respondents are Title II or Title XVI disability recipients or their representatives.

Type of Request: Revision of an OMB-approved information collection.

Modality of completion | Number of respondents | Frequency of response | Average burden per response (minutes) | Estimated total annual burden (hours) | Average theoretical hourly cost amount (dollars) * | Average wait time in field office or for teleservice centers (minutes) ** | Total annual opportunity cost (dollars) ***
SSA-454- BK (paper version) | 189,350 | 1 | 60 | 189,350 | * $10.95 | ** 24 | *** $2,902,736
Electronic Disability Collect System (EDCS) | 270,500 | 1 | 60 | 270,500 | * 10.95 | ** 24 | *** 4,146,765
i454 (Internet) | 81,150 | 1 | 60 | 81,150 | * 10.95 |  | *** 888,593
Totals | 541,000 |  |  | 541,000 |  |  | *** 7,938,094
* We based this figure on the average DI payments based on SSA's current FY 2021 data (https://www.ssa.gov/legislation/2021FactSheet.pdf).
** We based this figure on the average FY 2021 wait times for field offices, based on SSA's current management information data.
*** This figure does not represent actual costs that SSA is imposing on recipients of Social Security payments to complete this application; rather, these are theoretical opportunity costs for the additional time respondents will spend to complete the application. There is no actual charge to respondents to complete the application.

Dated: August 12, 2021.
Naomi Sipple,
Reports Clearance Officer, Social Security Administration.

[FR Doc. 2021-17659 Filed 8-17-21; 8:45 am]

BILLING CODE 4191-02-P